DEPARTMENT OF HEALTH AND HUMAN SERVICES

National Institutes of Health

Establishment of the Advisory Committee to the Deputy Director for Intramural Research

Pursuant to the Federal Advisory Committee Act, as amended (5 U.S.C. App), the Director, National Institutes of Health (NIH), announces the establishment of the Advisory Committee to the Deputy Director for Intramural Research, National Institutes of Health (ACDDIR).

The ACDDIR will provide advice and recommendations to the Deputy Director for Intramural Research, NIH, or other appropriate delegated officials on matters related to the Office of Intramural Research and include (1) the Office of Intramural Training and Education; (2) the Office of Animal Care and Use; (3) the Office of Human Subjects Research; (4) the Office of NIH History; (5) the Office of Technology Transfer; and (6) any other program located in the Office of Intramural Research. Advice provided may include specific accomplishments, overall strengths and weaknesses of a particular program, as well as recommendations for future directions, the overall design, content, development and/or delivery of training programs to specific groups, as well as recommendations concerning program and policy development and resource allocation.

Duration of this committee is two years from the date the Charter is filed.

Dated: July 20, 2011.
Francis S. Collins,
Director, National Institutes of Health.

[FR Doc. 2011-19226 Filed 7-28-11; 8:45 am]

BILLING CODE 4140-01-P